DEPARTMENT OF TRANSPORTATION

Federal Railroad Administration

[Docket No. FRA-2025-0009]

Proposed Agency Information Collection Activities; Comment Request

AGENCY: Federal Railroad Administration (FRA), Department of Transportation

(DOT).

ACTION: Notice of information collection; request for comment.

SUMMARY: Under the Paperwork Reduction Act of 1995 (PRA) and its implementing regulations, this notice announces that FRA is forwarding the Information Collection Request (ICR) summarized below to the Office of Management and Budget (OMB) for review and comment. The ICR describes the information collection and its expected burden. On August 8, 2025, FRA published a notice providing a 60-day period for public comment on the ICR. FRA received no comments in response to the notice.

DATES: Interested persons are invited to submit comments on or before December 26, 2025.

ADDRESSES: Written comments and recommendations for the proposed ICR should be sent within 30 days of publication of this notice to www.reginfo.gov/public/do/PRAMain. Find the particular ICR by selecting “Currently under Review—Open for Public Comments” or by using the search function.

FOR FURTHER INFORMATION CONTACT: Ms. Arlette Mussington, Information Collection Clearance Officer, at email: arlette.mussington@dot.gov or telephone: (571) 609-1285 or Ms. Joanne Swafford, Information Collection Clearance Officer, at email: joanne.swafford@dot.gov or telephone: (757) 897-9908.

SUPPLEMENTARY INFORMATION: The PRA, 44 U.S.C. 3501-3520, and its implementing regulations, 5 CFR part 1320, require Federal agencies to issue two notices seeking public comment on information collection activities before OMB may approve paperwork packages. See 44 U.S.C. 3506, 3507; 5 CFR 1320.8 through 1320.12. On August 8, 2025, FRA published a 60-day notice in the Federal Register soliciting public comment on the ICR for which it is now seeking OMB approval. See 90 FR 38582. FRA has received no comments related to the proposed collection of information.

Before OMB decides whether to approve this proposed collection of information, it must provide 30 days' notice for public comment. Federal law requires OMB to approve or disapprove paperwork packages between 30 and 60 days after the 30-day notice is published. 44 U.S.C. 3507(b) and (c); 5 CFR 1320.12(d); see also 60 FR 44978, 44983 (Aug. 29, 1995). The 30-day notice informs the regulated community of their opportunity to file relevant comments and affords the agency adequate time to consider public comments before it renders a decision. 60 FR 44983 (Aug. 29, 1995). Therefore, respondents should submit their respective comments to OMB within 30 days of publication to best ensure having their full effect.

Comments are invited on the following ICR regarding: (1) whether the information collection activities are necessary for FRA to properly execute its functions, including whether the information will have practical utility; (2) the accuracy of FRA's estimates of the burden of the information collection activities, including the validity of the methodology and assumptions used to determine the estimates; (3) ways for FRA to enhance the quality, utility, and clarity of the information being collected; and (4) ways to minimize the burden of information collection activities on the public, including the use of automated collection techniques or other forms of information technology.

The summary below describes the ICR that FRA will submit for OMB clearance as the PRA requires:

Title: System for Telephonic Notification of Unsafe Conditions at Highway-Rail and Pathway Grade Crossings.

OMB Control Number: 2130-0591.

Abstract: FRA's regulations on emergency notification systems (ENS) for telephonic reporting of unsafe conditions at highway-rail and pathway grade crossings (subpart E of 49 CFR part 234) prescribe standards to ensure that the congressional mandate ¹ to require railroad carriers to establish and maintain a toll-free telephone service to report unsafe conditions at highway-rail and pathway grade crossings is carried out. This collection of information is used by railroads to investigate and respond to unsafe conditions and thereby reduce the risk of accidents/incidents and corresponding casualties and property damage at such crossings. In addition, law enforcement authorities use the information to direct vehicular traffic or carry out other activities to maintain safety at the highway-rail or pathway grade crossing.

¹ Section 205(a) of the Rail Safety Improvement Act of 2008 (RSIA), Public Law 110-432, Div. A (Oct. 16, 2008), codified at 49 U.S.C. 20152.

Type of Request: Extension without change (with changes in estimates) of a currently approved collection.

Affected Public: Businesses.

Form(s): N/A.

Respondent Universe: 607 railroads.

Frequency of Submission: On occasion.

Total Estimated Annual Responses: 187,202.

Estimated Annual Burden: 22,385.

Estimated Annual Burden Hour Dollar Cost Equivalent: $1,755,460.17.

FRA informs all interested parties that it may not conduct or sponsor, and a respondent is not required to respond to, a collection of information that does not display a currently valid OMB control number.

(Authority: 44 U.S.C. 3501-3520.)

Christopher S. Van Nostrand,
Deputy Chief Counsel.

[FR Doc. 2025-21149 Filed 11-25-25; 8:45 am]

BILLING CODE 4910-06-P